DEPARTMENT OF TRANSPORTATION

Maritime Administration

U.S. Merchant Marine Academy Board of Visitors Meeting

AGENCY: Maritime Administration, Department of Transportation.

ACTION: Meeting notice.

SUMMARY: The U.S. Department of Transportation, Maritime Administration (MARAD) announces that the following U.S. Merchant Marine Academy (Academy) Board of Visitors (BOV) meeting will take place:

1. Date: July 12, 2017.

2. Time: 1:30-2:30 p.m.

3. Location: Capitol Visitors Center, Washington, DC. Room to be determined.

4. Purpose of the Meeting: The purpose of this meeting is to brief BOV members on the Academy Advisory Board's annual report to the Secretary of Transportation, the state of the Academy and the status of reaccreditation.

5. Public Access to the Meeting: This meeting is open to the public. Seating is on a first-come basis. Members of the public wishing to attend the meeting will need to show photo identification in order to gain access to the meeting location.

FOR FURTHER INFORMATION CONTACT: The BOV's Designated Federal Officer and Point of Contact Brian Blower; 202 366-2765; Brian.Blower@dot.gov.

SUPPLEMENTARY INFORMATION: Any member of the public is permitted to file a written statement with the Academy BOV. Written statements should be sent to the Designated Federal Officer (DFO) at: Brian Blower; 1200 New Jersey Ave SE., W28-314, Washington, DC 20590 or via email at Brian.Blower@Dot.gov. (Please contact the Designated Federal Officer for information on submitting comments via fax.) Written statements must be received no later than three working days prior to the next meeting in order to provide time for member consideration. Due to time constraints, there will not be a public comment period during the meeting, but, individuals wishing to provide follow-on comments can do so by contacting the DFO, Brian Blower at his email listed above.

Authority: 46 U.S.C. 51312; 5 U.S.C. app. 552b; 41 CFR parts 102-3.140 through 102-3.165.

By Order of the Executive Director in lieu of the Maritime Administrator.
Dated: June 21, 2017.
T. Mitchell Hudson, Jr.,
Secretary, Maritime Administration.

[FR Doc. 2017-13254 Filed 6-23-17; 8:45 am]

BILLING CODE 4910-81-P